ENVIRONMENTAL PROTECTION AGENCY

[FRL-10560-01-R6]

Underground Injection Control Program; Hazardous Waste Injection Restrictions; Petition for Exemption Reissuance—Class I Hazardous Waste Injection; INVISTA Orange Plant, Texas

AGENCY: Environmental Protection Agency (EPA).

ACTION: Notice of a final decision on a no migration petition reissuance.

SUMMARY: Notice is hereby given that a reissuance of an exemption to the land disposal restrictions, under the 1984 Hazardous and Solid Waste Amendments to the Resource Conservation and Recovery Act, has been granted to INVISTA Channelview Plant for two Class I hazardous waste injection wells at the Invista Orange Plant located in Orange, Texas.

DATES: This action was effective as of October 14, 2020.

ADDRESSES: Copies of the petition reissuance and all pertinent information relating thereto are on file at the following location: Environmental Protection Agency, Region 6, Water Division, Safe Drinking Water Branch (6WD-D), 1201 Elm Street, Suite 500, Dallas, Texas 75270-2102.

FOR FURTHER INFORMATION CONTACT: Ken Johnson, Supervisor, Ground Water/UIC Section, EPA—Region 6, telephone (214) 665-8473.

SUPPLEMENTARY INFORMATION: As required by 40 CFR part 148, the company has adequately demonstrated to the satisfaction of the Environmental Protection Agency (EPA) by the petition reissuance application and supporting documentation that, to a reasonable degree of certainty, there will be no migration of hazardous constituents from the injection zone for as long as the waste remains hazardous. This final decision allows the underground injection by the INVISTA Orange Plant, of the specific restricted hazardous wastes identified in this exemption reissuance, into Class I hazardous waste injection Wells WDW-191 and WDW-282 until December 31, 2050, unless EPA moves to terminate this exemption under provisions of 40 CFR 148.24. Additional conditions included in this final decision may be reviewed by contacting the Region 6 Ground Water/UIC Section. As required by 40 CFR 148.22(b) and 124.10, a public notice was issued August 19, 2020. The public comment period closed on October 5, 2020. No comments were received. This decision constitutes final Agency action and there is no Administrative appeal.

Dated: March 23, 2023.
Charles W. Maguire,
Director, Water Division, Region 6.

[FR Doc. 2023-06544 Filed 3-29-23; 8:45 am]

BILLING CODE 6560-50-P